DEPARTMENT OF ENERGY

Federal Energy Regulatory Commission

[Docket Nos. ER06-615-000; ER07-1257-000; ER08-1113-000]

California Independent System, Operator Corporation; Notice of FERC Staff Attendance

January 28, 2009.

The Federal Energy Regulatory Commission (Commission) hereby gives notice that on the following dates members of its staff will participate in teleconferences to be conducted by the California Independent System Operator (CAISO). The agenda and other documents for the teleconferences are available on the CAISO's Web site, http://www.caiso.com.

January 30, 2009—Teleconference on MRTU Pricing Review

February 2, 2009—Teleconference on MRTU Systems Testing

February 3, 2009—Teleconference on MRTU Parallel Operations

February 10, 2009—Teleconference on MRTU Parallel Operations

Sponsored by the CAISO, the teleconferences are open to all market participants, and Commission staff's attendance is part of the Commission's ongoing outreach efforts. The teleconferences may discuss matters at issue in the above captioned dockets.

For further information, contact Saeed Farrokhpay at saeed.farrokhpay@ferc.gov; (916) 294-0233 or Maury Kruth at maury.kruth@ferc.gov, (916) 294-0275.

Kimberly D. Bose,
Secretary.

[FR Doc. E9-2286 Filed 2-3-09; 8:45 am]

BILLING CODE 6717-01-P